DEPARTMENT OF ENERGY

Federal Energy Regulatory Commission

[Project No. 2738-054]

New York State Electric & Gas Corporation; Notice Soliciting Scoping Comments

February 28, 2005.

Take notice that the following hydroelectric application has been filed with the Commission and is available for public inspection.

a. Type of Application: New major license.

b. Project No.: P-2738-054.

c. Date Filed: April 4, 2004.

d. Applicant: New York State Electric & Gas Corporation.

e. Name of Project: Saranac River Hydroelectric Project.

f. Location: On the Saranac River, in Clinton County, New York. This project does not occupy Federal lands.

g. Filed Pursuant to: Federal Power Act 16 U.S.C. 791(a)-825(r).

h. Applicant Contact: Hugh Ives, New York State Electric & Gas Corporation, Corporate Drive, Kirkwood Industrial Park, P.O. Box 5224, Binghampton, NY 13902, (585) 724-8209.

i. FERC Contact: Tom Dean, (202) 502-6041 or thomas.dean@ferc.gov.

j. Deadline for Filing Scoping Comments: March 31, 2005.

All Documents (Original and Eight Copies) Should Be Filed With: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “eFiling” link. The Commission encourages electronic filings.

k. This application has been accepted, but is not ready for environmental analysis at this time.

l. Project Description: The project consists of the following four developments:

The High Falls Development consists of the following existing facilities: (1) A 63-foot-high, 274-foot-long concrete gravity dam with spillway topped with 5-foot-high flashboards; (2) a 110-foot-long eastern wingwall and a 320-foot-long western wingwall; (3) a 46-acre reservoir; (4) an 800-foot-long, 19-foot-wide forebay canal; (5) an 11-foot by 12-foot, 3,581-foot-long tunnel; (6) a 10-foot-diameter, 1,280-foot-long penstock; (7) three 6-foot-diameter, 150-foot-long penstocks; (8) a 30-foot-diameter surge tank; (9) a powerhouse containing three generating units with a total installed capacity of 15,000 kW; (10) a 50-foot-long, 6.9-kV transmission line; and (11) other appurtenances.

The Cadyville Development consists of the following existing facilities: (1) A 50-foot-high, 237-foot-long concrete gravity dam with spillway topped with 2.7-foot-high flashboards; (2) a 200-acre reservoir; (3) a 58-foot-long, 20-foot-wide intake; (4) a 10-foot-diameter, 1,554-foot-long penstock; (5) a powerhouse containing three generating units with a total installed capacity of 5,525 kW; (6) a 110-foot-long, 6.6-kV transmission line; and (7) other appurtenances.

The Mill C Development consists of the following existing facilities: (1) A 43-foot-high, 202-foot-long stone masonry dam with spillway topped with 2-foot-high flashboards; (2) a 7.9-acre reservoir; (3) a 37-foot-long, 18-foot-wide intake; (4) a 11.5-foot to 10-foot-diameter, 494-foot-long penstock; (5) a 11.1-foot to 10-foot-diameter, 84-foot-long penstocks; (6) one powerhouse containing two generating units with a total installed capacity of 2,250 kW; (7) another powerhouse containing a single generating unit with an installed capacity of 3,800 kW; (8) a 700-foot-long, 6.6-kV transmission line; and (9) other appurtenances.

The Kents Falls Development consists of the following existing facilities: (1) A 59-foot-high, 172-foot-long concrete gravity dam with spillway topped with 3.5-foot-high flashboards; (2) a 34-acre reservoir; (3) a 29-foot-long, 22-foot-wide intake; (4) an 11-foot-diameter, 2,652-foot-long penstock; (5) three 6-foot-diameter, 16-foot-long penstocks; (6) a 28-foot-diameter surge tank; (7) a powerhouse containing two generating units with a total installed capacity of 12,400 kW; (8) a 390-foot-long, 6.6-kV transmission line; and (9) other appurtenances.

m. A copy of the application is on file with the Commission and is available for public inspection. This filing may also be viewed on the Web at http://www.ferc.gov using the “eLibrary” link—select “Docket #” and follow the instructions. For assistance, please contact FERC Online Support at FERCOnlineSupport@ferc.gov or toll free at (866) 208-3676 or for TTY, contact (202) 502-8659. A copy is also available for inspection and reproduction at the address in item h above.

n. You may also register online at http://www.ferc.gov.esubscribenow.htm to be notified via e-mail of new filings and issuances related to this or other pending projects. For assistance, contact FERC Online Support.

o. Scoping Process: The Commission staff intends to prepare an Environmental Assessment (EA) for the Saranac River Hydroelectric Project in accordance with the National Environmental Policy Act. The EA will consider both site-specific and cumulative environmental impacts and reasonable alternatives to the proposed action.

Commission staff does not propose to conduct any on-site scoping meetings at this time. Instead, we will solicit comments, recommendations, information, and alternatives in the Scoping Document (SD).

Copies of the SD outlining the subject areas to be addressed in the EA were distributed to the parties on the Commission's mailing list. Copies of the SD may be viewed on the Web at http://www.ferc.gov using the “eLibrary” link. Enter the docket number excluding the last three digits in the docket number field to access the document. For assistance, call 1-866-208-3676 or for TTY, (202) 502-8659.

Magalie R. Salas,
Secretary.

[FR Doc. E5-908 Filed 3-4-05; 8:45 am]

BILLING CODE 6717-01-P